DEPARTMENT OF EDUCATION

National Assessment Governing Board; Meeting

AGENCY: National Assessment Governing Board; Education.

ACTION: Notice of open meeting and partially closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e. interpreting services, assistive listening devices, materials in alternative format) should notify Munira Mwalimu at 202-357-6938 or at Munira.Mwalimu@ed.gov no later than November 1, 2005. We will attempt to meet requests after this date, but cannot guarantee availability of the requested accommodation. The meeting site is accessible to individuals with disabilities.

DATES: November 17-19, 2005

Times

November 17

Committee Meetings

Assessment Development Committee: Closed Session—9 a.m. to 2 p.m.;

Assessment Development Committee and Committee on Standards, Design and Methodology (Joint Meeting): Open Session—2 p.m. to 4 p.m.;

Reporting and Dissemination Committee: Open Session—2 p.m. to 4 p.m.;

Executive Committee: Open Session—4:30 p.m. to 5:30 p.m.; Closed Session 5:30 p.m. to 6 p.m.

November 18

Full Board: Open Session—8:30 a.m. to 12 p.m.; Closed Session 12 p.m. to 2 p.m.; Open Session 2:15 p.m. to 4:30 p.m.

Committee Meetings

Assessment Development Committee: Open Session—9:30 a.m. to 12 p.m.;

Committee on Standards, Design and Methodology: Open Session—9:30 a.m. to 12 p.m.;

Reporting and Dissemination Committee: Open Session—9:30 a.m. to 12 p.m.;

November 19

Nominations Committee: Open Session—7:45 a.m. to 8:45 a.m.

Full Board: Open Session—9 a.m. to 12 p.m.

Location: Sheraton National Hotel Arlington, 900 South Orme Street, Arlington, VA 22204.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on November 17 from 9 a.m. to 2 p.m. (five hours) to review 19 reading blocks and 25-30 reading passages (approximately 190 cognitive items) for the 2009 National Assessment of Educational Progress (NAEP) Reading assessments at grades 4 and 8. This review is required by the No Child Left Behind Act of 2001 prior to submission to the Office of Management and Budget for clearance. This is the last review of the 2009 assessment instrument by NAGB. The meeting must be conducted in closed session as disclosure of proposed test items from the NAEP assessments would significantly impede implementation of the NAEP program, and is therefore protected by exemption 9(B) of section 552b(c) of Title 5 U.S.C.

On November 17, the Assessment Development Committee and the Committee on Standards, Design, and Methodology will meet in a joint open session from 2 p.m. to 4 p.m. and the Reporting and Dissemination Committee will meet in open session from 2 p.m. to 4 p.m.

The Executive Committee will meet in open session on November 17 from 4:30 p.m. to 5:30 p.m. The Executive Committee will meet in closed session on November 17 from 5:30 p.m. to 5:50 p.m. to receive independent government cost estimates from the Associate Commissioner, National Center for Education Statistics for proposed contracts for item development, sample selection, analysis, and reporting of NAEP testing for 2007-2012 and their implications on future NAEP activities. The discussion of independent government cost estimates prior to the development of the Request for Proposals for NAEP 2007-2012 contracts is necessary for ensuring that NAEP contracts meet congressionally mandated goals and adhere to Board policies on NAEP assessments. This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

During this closed session, from 5:50 p.m. to 6 p.m. the Executive Committee (only Board members) will discuss a NAGB personnel matter. This discussion pertains solely to internal personnel rules and practices of an agency and will disclose information of a personal nature where disclosure would constitute an unwarranted invasion of personal privacy. As such, the discussions are protected by exemptions 2 and 6 of section 552b(c) of Title 5 U.S.C.

On November 18, the full Board will meet in open session from 8:30 a.m. to 12 p.m. From 8:30 a.m. to 9:15 a.m. the Board will approve the agenda, and receive the Executive Director's report and an update on the work of the National Center for Education Statistics (NCES).

From 9:30 a.m. to 12 p.m. on November 18, the Board's standing committees—the Assessment Development Committee; the Committee on Standards, Design, and Methodology; and the Reporting and Dissemination Committees—will meet in open session.

The full Board will meet in closed session on November 18 from 12 p.m. to 2 p.m. The Board will receive a briefing from the Associate Commissioner of the National Center for Education Statistics on NAEP participation by various states affected by hurricanes Katrina and Rita, and these questions about participation will have a direct impact on cost estimates for NCES contracts. The meeting must therefore be conducted in closed session as disclosure of independent cost estimates for NCES contracts would significantly impede implementation of the NAEP contract activities, and is therefore protected by exemption 9(B) of section 552b(c) of Title 5 U.S.C.

On November 18, the full Board will meet in open session from 2:15 p.m. to 4:30 p.m. At 2:15 p.m., Raymond Simon, U.S. Deputy Secretary of Education, will administer the Oath of Office to a new Board member. From 2:30 p.m. to 4 p.m. Board members will receive an update and take action on the NAEF 2009 Science Framework project. At 4 p.m. an ethics briefing will be provided to Board members by a staff member from the Office of General Counsel. The November 18 session of the Board meeting will conclude at 4:30 p.m.

On November 19, the Nominations Committee will meet from 7:45 p.m. to 8:45 p.m. in open session. The full Board will convene in open session from 9 a.m. to 12 p.m. At 9 a.m., the Board will receive a briefing on the newly formed U.S. Department of Education Higher Education Commission and the relationship of the Commission's work with the Board's work on high school assessment. Board actions on policies and Committee reports are scheduled to take place between 10:15 a.m. and 12 p.m., upon which the November 19, 2005 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time.

Dated: October 24, 2005.
Charles E. Smith,
Executive Director, National Assessment Governing Board.

[FR Doc. 05-21495 Filed 10-27-05; 8:45 am]

BILLING CODE 4000-01-M